DEPARTMENT OF LABOR

Employment and Training Administration

Agency Information Collection Activities; Comment Request; Trade Adjustment Assistance Program Reserve Funding Request

ACTION: Notice.

SUMMARY: The Department of Labor's (DOL's) Employment and Training Administration (ETA) is soliciting comments concerning a proposed revision for the authority to conduct the information collection request (ICR) titled, “Trade Adjustment Assistance Program Reserve Funding Request.” This comment request is part of continuing Departmental efforts to reduce paperwork and respondent burden in accordance with the Paperwork Reduction Act of 1995 (PRA).

DATES: Consideration will be given to all written comments received by May 28, 2019.

ADDRESSES: A copy of this ICR with applicable supporting documentation, including a description of the likely respondents, proposed frequency of response, and estimated total burden may be obtained free by contacting Timothy Theberge, by telephone at (202) 693-3401 (this is not a toll-free number), TTY/TDD toll-free Federal Information Relay Service at 1-877-889-5627, or by email at theberge.timothy@dol.gov.

Submit written comments about, or requests for a copy of, this ICR by mail or courier to the U.S. Department of Labor, Employment and Training Administration, Office of Trade Adjustment Assistance, 200 Constitution Avenue, NW, Room N-5428, Washington, DC 20210; by email: regulations.taa@dol.gov; or by Fax (202) 693-3584.

FOR FURTHER INFORMATION CONTACT: Timothy Theberge by telephone at (202) 693-3401 (this is not a toll-free number) or by email at theberge.timothy@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This form helps to ensure requested data can be provided in the desired format, reporting burden (time and financial resources) is minimized, collection instruments are clearly understood, and the impact of collection requirements can be properly assessed.

Section 241 of the Trade Act of 1974, as amended (Act), provides that: “the Secretary shall from time to time certify to the Secretary of the Treasury for payment to each cooperating state the sums necessary to enable such State as agents of the United States to make payments provided for by this chapter.” As such, states may request reserve funds to cover the costs of training, job search allowances and relocation allowances, employment and case management services, and state administration of these benefits before DOL issues the final distribution of state allocations. Reserve funds are distributed to states in accordance with 20 CFR 618.920 on an as-needed basis in response to requests to provide monies to those states that experience large, unexpected layoffs, or otherwise have financial needs that are not met by their initial allocation. These funds are requested using the Form ETA-9117. Section 236(a)(2)(D) of the Trade Act of 1974, as amended, authorizes this information collection.

The current approved version of the collection is based on amendments made to the Act through the Trade Reform Act of 2002 (Pub. L. 107-210). Since that time, there have been three additional major amendments to the Act, most recently through the Trade Adjustment Assistance Reauthorization Act of 2015 (Pub. L. 114-27). One of the major changes authorized funding for the provision of employment and case management services under Section 235 of the Act. The current collection does not take into account this authorized expenditure category. The revised collection will substitute information currently required on expenditures and obligations of funds for the job search allowances and relocation allowances under Section 237 and 238 of the Act, respectively, for information on expenditures and obligations under the Section 235 of the Act. The Department has also refined the layout of the form for clarity. The change will not affect the burden of this collection, and there is no additional cost to respondents.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0275.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Trade Adjustment Assistance Program Reserve Funding Request.

Form(s): ETA 9117.

OMB Control Number: 1205-0275.

Affected Public: State Governments.

Estimated Number of Respondents: 25.

Frequency: Once.

Total Estimated Annual Responses: 25.

Estimated Average Time per Response: 2 hours.

Estimated Total Annual Burden Hours: 50 hours.

Total Estimated Annual Other Cost Burden: $0.

Molly E. Conway,
Acting Assistant Secretary for Employment and Training, Labor.

[FR Doc. 2019-06055 Filed 3-28-19; 8:45 am]

BILLING CODE 4510-FN-P